DEPARTMENT OF HEALTH AND HUMAN SERVCES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer on (240) 276-1243.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project Behavioral Health Information Technologies and Standards—In-Depth Qualitative Data Collection Activity—NEW

The Substance Abuse and Mental Health Services Administration (SAMHSA) Center for Substance Abuse Treatment (CSAT) and Center for Behavioral Health Statistics and Quality (CBHSQ) are proposing to conduct qualitative data collection activities (i.e., focus group and site visits) to assess health information technology (HIT) adoption practices among SAMHSA grantees. As part of its Strategic Initiative to advance the use of health information technologies to support integrated behavioral health care, SAMHSA has been working to develop questions that will examine HIT adoption by behavioral health service providers who are implementing SAMHSA grant programs. The selected programs are funded by the by the Center for Mental Health Services (CMHS), the Center for Substance Abuse Prevention (CSAP), and (CSAT).

This project seeks to expand data necessary to inform the Agency's strategic initiative that focuses on fostering the adoption of health information technologies in community behavioral health services. The qualitative activities will elicit success stories, challenges to adopting health information technologies, and lessons learned regarding SAMHSA grantee access to and use of health information technology and will provide valuable information to inform the behavioral health information technology literature.

Approval of this data collection effort by the Office of Management and Budget (OMB) will allow SAMHSA to identify the current status of health information technology adoption and use among a select group of grantees who have demonstrated success in at least one of the identified health information technology categories: Certified electronic health records, telehealth technologies, mobile health, and social media-based consumer engagement tools. Data from the focus groups and site visits will allow SAMHSA to enhance the health information technology-related programmatic activities among its grantees by providing data on how health information technologies facilitate the implementation of different types of SAMHSA grants; thereby fostering the appropriate adoption of health information technologies within SAMSHA-funded programs.

Ten (10) respective focus groups and site visit sessions will collect qualitative data to provide a snapshot view of the current state of health information technology adoption. The focus groups will include up to six participations per session and will be representative of the ten Department of Health and Human Services Regions. Site visit participants will be selected from among SAMHSA-funded grant programs and non-profit community behavioral health providers nominated by Project Officers as exemplars in the field of health information technologies, with recognized success in at least one of the four health information technology domain categories.

The proposed ten (10) in-person focus group sessions will not exceed 90-minutes in duration and will be limited to no less than six (6) and no more than (8) participants. The proposed ten (10) in-person site visit sessions will not exceed eight (8) hours in duration and will include, on average two (2) participants at any one time during the visit. The focus group and site visit sessions are expected to occur between the hours of 9:00 a.m. and 5:00 p.m. and will allow sufficient time for food and personal breaks. The total estimated burden to participate in the focus groups is 120 hours. The total estimated burden to participate in the site visits is 160 hours. The following table summarizes the estimated participation burden:

Focus Group and Site Visit Estimated Annual Hour Burden:

Activity | Number of respondents | Number of responses annually per respondent | Total responses | Average hours per response | Total burden hours
Focus Group | 80 | 1 | 80 | 1.5 | 120
Site Visits | 20 | 1 | 20 | 8 | 160
Total | 100 |  | 100 |  | 280

Send comments to Summer King, SAMHSA Reports Clearance Officer, Room 2-1057, One Choke Cherry Road, Rockville, MD 20857 OR email her a copy at summer.king@samhsa.hhs.gov. Written comments should be received by September 28, 2015.

Summer King,
Statistician.

[FR Doc. 2015-18428 Filed 7-27-15; 8:45 am]

BILLING CODE 4162-20-P